DEPARTMENT OF EDUCATION

Closed Teleconference Meeting

AGENCY: National Assessment Governing Board, U.S. Department of Education.

ACTION: Notice of a closed teleconference meeting.

SUMMARY: This notice sets forth the agenda for a closed teleconference meeting of the National Assessment Governing Board (hereafter referred to as Governing Board) to review and take action on nominations for Governing Board vacancies, in accordance with the personnel appointment actions stipulated under § 302(d) of Public Law 107-279.

Due to the need to adhere to the Governing Board's established nominations cycle for Governing Board vacancies, this notice is being posted less than 15 days prior to the meeting.

DATES: Thursday, June 22, 2017, from 3:00 p.m. to 3:45 p.m. EST.

FOR FURTHER INFORMATION CONTACT: Munira Mwalimu, Executive Officer/Designated Federal Official of the Governing Board, 800 North Capitol Street NW., Suite 825, Washington, DC 20002, telephone: (202) 357-6938, fax: (202) 357-6945.

SUPPLEMENTARY INFORMATION:

Statutory Authority and Function: The Governing Board is established under the National Assessment of Educational Progress Authorization Act, Title III of Public Law 107-279. Information on the Governing Board and its work can be found at www.nagb.gov.

The Governing Board is established to formulate policy for the National Assessment of Educational Progress (NAEP). The Governing Board's congressionally mandated responsibilities include developing appropriate student achievement levels for each grade and subject tested. Based on recommendations from policymakers, educators, and members of the general public, the Governing Board sets specific achievement levels for each subject area and grade assessed on The Nation's Report Card. Achievement levels are performance standards that show what students should know and be able to do. Results are reported as percentages of students performing at or above the Basic and Proficient levels, and at the Advanced level. Additional information on the Governing Board and memberships terms can be found at https://www.nagb.gov.

Notice of the meeting is required under § 10(a)(2) of the Federal Advisory Committee Act (FACA). The discussion during the teleconference pertains solely to internal personnel rules and practices of an agency and information of a personal nature where disclosure would constitute a clearly unwarranted invasion of personal privacy. As such, the discussions are protected by exemptions 2 and 6 of § 552b(c) of Title 5 of the United States Code.

The National Assessment Governing Board will participate in a teleconference meeting on Thursday, June 22, 2017 from 3:00 p.m.-3:45 p.m. EST. The purpose of the meeting is to review the Nomination Committee's recommendations for the final slate of candidates for the 2017 Governing Board vacancies for terms that begin on October 1, 2017. Following discussion, the Governing Board will take action on the final slate of candidates to be submitted to the Secretary of Education.

Members of the public will have an opportunity to provide written feedback on the closed teleconference meeting in advance of the call at nagb@ed.gov, with the email subject header titled “Teleconference Feedback on Nominations.” Comments must be received no later than 12:00 p.m. EST on June 12, 2017.

Dated: June 1, 2017.
William J. Bushaw,
Executive Director.

[FR Doc. 2017-11726 Filed 6-6-17; 8:45 am]

BILLING CODE 4000-01-P